DEPARTMENT OF ENERGY

Federal Energy Regulatory Commission

[Docket No. ER00-3212-000, et al.]

California Power Exchange Corporation, et al.; Electric Rate and Corporate Regulation Filings

August 7, 2000.

Take notice that the following filings have been made with the Commission:

1. California Power Exchange Corporation

[Docket No. ER00-3212-000]

Take notice that on August 2, 2000, the California Power Exchange Corporation (CalPX) amended its July 18, 2000, filing in this proceeding. The CalPX states that it has served copies of its filing on its participants and on the California Public Utilities Commission.

Comment date: August 23, 2000, in accordance with Standard Paragraph E at the end of this notice.

2. California Power Exchange Corporation

[Docket No. ER00-2736-001]

Take notice that on August 2, 2000, the California Power Exchange Corporation (CalPX) made a filing to comply with the Commission's July 28, 2000 order in this proceeding.

Comment date: August 23, 2000, in accordance with Standard Paragraph E at the end of this notice.

3. International Transmission Company

[Docket No. ER00-3295-001]

Take notice that on August 2, 2000, International Transmission Company filed certain errata to its July 28, 2000 “Application for Approval of Innovative Transmission Rate Treatment Pursuant to Section 205 of the Federal Power Act and Request for Waiver of Certain Regulations,” in the above-referenced docket, in the form of corrected pages to the filing, as well as redlined pages showing the changes made.

Comment date: August 23, 2000, in accordance with Standard Paragraph E at the end of this notice.

4. Florida Power & Light Company

[Docket No. ER00-3348-000]

Take notice that on August 2, 2000, Florida Power & Light Company (FPL) tendered for filing proposed service agreements with Conectiv Energy Supply, Inc., for Non-Firm transmission service under FPL's Open Access Transmission Tariff.

FPL requests that the proposed service agreement be permitted to become effective on July 31, 2000.

FPL states that this filing is in accordance with Part 35 of the Commission's Regulations.

Comment date: August 23, 2000, in accordance with Standard Paragraph E at the end of this notice.

5. California Independent System Operator Corporation

[Docket No. ER00-3349-000]

Take notice that on August 2, 2000, the California Independent System Operator Corporation (ISO), tendered for filing an executed Metered Service Agreement (MSA) for Scheduling Coordinators between the ISO and the City of Santa Clara d/b/a Silicon Valley Power (Rate Schedule No. 254).

The ISO requests that the MSA become effective as of June 23, 2000. The ISO also requests waiver of the Commission's sixty-day prior notice requirement, pursuant to section 35.3 of the Commission's Regulations, 18 CFR 35.3, in order to permit this effective date.

The ISO states that copies of this filing have been served upon all parties in the above-referenced docket.

Comment date: August 23, 2000, in accordance with Standard Paragraph E at the end of this notice.

6. California Independent System Operator Corporation

[Docket No. ER00-3350-000]

Take notice that on August 2, 2000, the California Independent System Operator Corporation (ISO), tendered for filing an executed Metered Service Agreement (MSA) for Scheduling Coordinators between the ISO and Edison Mission Marketing & Trading, Inc. (Rate Schedule No. 243).

The ISO requests that the MSA become effective as of May 16, 2000. The ISO also requests waiver of the Commission's sixty-day prior notice requirement, pursuant to section 35.3 of the Commission's Regulations, 18 CFR 35.3, in order to permit this effective date.

The ISO states that copies of this filing have been served upon all parties in the above-referenced docket.

Comment date: August 23, 2000, in accordance with Standard Paragraph E at the end of this notice.

7. California Independent System Operator Corporation

[Docket No. ER00-3351-000]

Take notice that on August 2, 2000, the California Independent System Operator Corporation (ISO), tendered for filing an executed Metered Service Agreement (MSA) for ISO Metered Entities between the ISO and Mt. Poso Cogeneration Company (Rate Schedule No. 174).

The ISO requests that the MSA become effective as of June 13, 2000. The ISO also requests waiver of the Commission's sixty-day prior notice requirement, pursuant to section 35.3 of the Commission's Regulations, 18 CFR 35.3, in order to permit this effective date.

The ISO states that copies of this filing have been served upon all parties in the above-referenced docket.

Comment date: August 23, 2000, in accordance with Standard Paragraph E at the end of this notice.

8. California Independent System Operator Corporation

[Docket No. ER00-3352-000]

Take notice that on August 2, 2000, the California Independent System Operator Corporation (ISO), tendered for filing an executed Metered Service Agreement (MSA) for ISO Metered Entities between the ISO and the City of Anaheim, California (Rate Schedule No. 173).

The ISO requests that the MSA become effective as of May 9, 2000. The ISO also requests waiver of the Commission's sixty-day prior notice requirement, pursuant to section 35.3 of the Commission's Regulations, 18 CFR 35.3, in order to permit this effective date.

The ISO states that copies of this filing have been served upon all parties in the above-referenced docket.

Comment date: August 23, 2000, in accordance with Standard Paragraph E at the end of this notice.

9. Midwest Electric Power, Inc.

[Docket No. ER00-3353-000]

Take notice that on August 2, 2000, Midwest Electric Power, Inc. (MEP), tendered for filing a Power Supply Agreement dated July 19, 2000 between MEP as Seller and Ameren Energy Marketing Company (AEM), Dynegy Power Marketing, Inc. (Dynegy), and LG&E Energy Marketing, Inc. (LEM) as Purchasing Parties (the Agreement).

MEP states that it has recently acquired and installed two new natural gas-fired combustion turbines, each of which has a generation capacity of 39 MW, that are collectively identified as the 6B Project. MEP states that under the Agreement, it will sell all of the capacity and associated energy from the 6B Project to the Purchasing Parties pursuant to a cost of service formula rate. The capacity and energy available from the 6B Project will be sold to the Purchasing Parties with the following Capacity Ratios:

AEM—60%

Dynegy—20%

LEM—20%

MEP is proposing to make the Agreement effective as of August 3, 2000.

Comment date: August 23, 2000, in accordance with Standard Paragraph E at the end of this notice.

10. California Power Exchange Corporation

[Docket No. ER00-3354-000]

Take notice that on August 2, 2000, the California Power Exchange Corporation (CalPX), tendered for filing certain revised tariff sheets pertaining to its Tariff Amendment Nos. 15, 16 and 17. Those amendments were accepted by the Commission in orders issued in Docket Nos. ER00-2630-000, ER00-2631-000 and ER00-2632-000, respectively. The tariff sheets tendered for filing in this proceeding do not make any substantive changes in the CalPX Tariff but merely conform the tariff sheets to the pagination and format of the Order No. 614 CalPX Tariff accepted by the Commission in Docket No. ER00-2736-000.

The CalPX states that it has served copies of its filing on its participants and on the California Public Utilities Commission.

Comment date: August 23, 2000, in accordance with Standard Paragraph E at the end of this notice.

11. Duke Energy Moss Landing, LLC

[Docket No. ER00-3355-000]

Take notice that on August 2, 2000, Duke Energy Moss Landing, LLC (Moss Landing), pursuant to section 205 of the Federal Power Act and section 35.15(a), 18 CFR 35.15(a) of the Commission's Regulations, Moss Landing tendered for filing with the Federal Energy Regulatory Commission a Notice of Termination of the Must-Run Rate Schedule between Moss Landing and that California Independent System Operator Corporation as the Must-Run Rate Schedule applies to Unit 6, designated as Moss Landing's FERC Rate Schedule No. 2.

Additionally, pursuant to section 35.15(a) of the Commission's Regulations, Moss Landing requests an effective date for this termination of October 1, 2000.

Comment date: August 23, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-20509 Filed 8-11-00; 8:45 am]

BILLING CODE 6717-01-P